FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 1, 2016.

A. Federal Reserve Bank of Chicago (Colette A. Fried, Assistant Vice President) 230 South LaSalle Street, Chicago, Illinois 60690-1414:

1. John Ruan III, Des Moines, Iowa; Suku Radia, West Des Moines, Iowa; David J. Fisher, West Des Moines, Iowa, Thomas R. Schaefer, Stuart, Florida; and J. Landis Martin, Denver, Colorado; together as a control group acting in concert to retain the authority to vote for all of the voting shares of BTC Financial Corporation, Des Moines, Iowa, and thereby indirectly control Bankers Trust Company, Des Moines, Iowa. Messrs. Ruan, Radia, Fisher, Schaefer and Martin constitute the Family Business Advisory Board of both The Ruan Trust and The Ruan BTC Trust, both of Des Moines, Iowa, which own all of the voting shares of BTC Financial Corporation. John Ruan III is the trustee of both Trusts.

Board of Governors of the Federal Reserve System, August 12, 2016.
Robert deV. Frierson,
Secretary of the Board.

[FR Doc. 2016-19619 Filed 8-16-16; 8:45 am]

BILLING CODE 6210-01-P